DEPARTMENT OF COMMERCE

National Telecommunications and Information Administration

Wireless Security Public Forum

AGENCY: National Telecommunications and Information Administration, U.S. Department of Commerce

ACTION: Notice of Public Meeting

SUMMARY: The National Telecommunications and Information Administration (NTIA), U.S. Department of Commerce, will host a half-day public meeting on wireless security entitled, “Pharmers and Spimmers, Hackers and Bluejackers: Combating Wireless Security Threats.” The forum is an opportunity for interested parties to discuss existing and potential vulnerabilities that threaten the security of consumers and businesses using new and/or forthcoming wireless communications for voice or data, and private sector and governmental responses to those vulnerabilities. The forum will serve to inform policymakers and industry on issues that may affect the use of spectrum and the growth of wireless industries, while raising public awareness of vulnerabilities. The first panel will address possible threats and security issues concerning new mobile technologies (e.g. Wi-Fi, smart cell phones, WiMax, mesh networks). Panelists will include wireless industry experts, academics, government users, market analysts and researchers. The second panel will discuss the variety of security solutions that might address the problems identified in Panel 1, and the need (if any) for further development of tools and public awareness and education. Panelists will include representative security vendors, wireless companies with hardware solutions, companies and/or government entities involved with education campaigns, and representatives of self-regulatory groups seeking solutions.

DATES: The Wireless Security Public Meeting will be held from 9:00 a.m. to 1:00 p.m. on Wednesday, July 20, 2005.

ADDRESSES: The public meeting will be held at the U.S. Department of Commerce, 1401 Constitution Avenue, N.W., Auditorium, Washington, D.C. (Entrance to the Department of Commerce is on 14th Street between Constitution and Pennsylvania Avenues, N.W.)

FOR FURTHER INFORMATION CONTACT: Sallianne Schagrin, Office of Policy Analysis and Development, at (202) 482-1880, or via electronic mail: sschagrin@ntia.doc.gov. Please direct media inquiries to the Office of Public Affairs, NTIA, at (202) 482-7002.

SUPPLEMENTARY INFORMATION: Americans are increasingly utilizing cutting-edge wireless technologies in their everyday lives. Many wireless data applications are already available, such as the increasing usage of smart cell phones and the growing availability of technologies such as Wi-Fi. Businesses are also increasing their use of wireless devices for remote access to office networks and for consumer transactions, such as wireless cash registers or PDAs, which transmit personal information of consumers. Other wireless technologies, such as WiMax and wireless mesh networks, are likely to become more widely used in the next few years.

The transmission of information over radio waves is inherently less secure than transmission by wire. Moreover, the intelligence built into leading edge technology is often vulnerable to the same threats as other computer or Internet Protocol devices. Understanding the nature of these threats, and the possible solutions, is important to government and industry alike as these new wireless technologies become more widely available.

NTIA has an interest in these issues as part of its mandate to develop telecommunications and information policies for the Executive Branch that will advance the nation's technological and economic advancement. This event would also further the goals of the President's Spectrum Initiative, which include maintenance of U.S. global leadership in communications technology development and services.

PUBLIC PARTICIPATION: The public meeting will be open to the public and press on a first-come, first-served basis. Space is limited. Due to security requirements and to facilitate entry to the Department of Commerce building, attendees must present photo identification and/or a U.S. Government building pass, if applicable, and should arrive at least one-half hour ahead of the panel sessions. The public meeting is physically accessible to people with disabilities. Any member of the public wishing to attend and requiring special services, such as sign language interpretation or other ancillary aids, should contact Sallianne Schagrin at (202) 482-1880 or sschagrin@ntia.doc.gov at least three (3) days prior to the meeting.

Dated: June 17, 2005.
Kathy D. Smith,
Chief Counsel, National Telecommunications and Information Administration.

[FR Doc. 05-12317 Filed 6-21-05; 8:45 am]

BILLING CODE 3510-60-S